DEPARTMENT OF HOMELAND SECURITY

Federal Emergency Management Agency

44 CFR Part 65

[Docket ID FEMA-2010-0003; Internal Agency Docket No. FEMA-B-1073]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Assistant Administrator for Mitigation reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community No.
Colorado: Jefferson | City of Westminster (09-08-0595P) | July 9, 2009; July 16, 2009; Westminster Window | The Honorable Nancy McNally, Mayor, City of Westminster, 4800 West 92nd Avenue, Westminster, CO 80031 | November 13, 2009 | 080008
Florida:
Alachua | City of Alachua (09-04-0431P) | June 3, 2009; June 10, 2009; The Gainesville Sun | The Honorable Jean Calderwood, Mayor, City of Alachua, P.O. Box 9, Alachua, FL 32616 | October 8, 2009 | 120664
Alachua | Unincorporated areas of Alachua County (09-04-0431P) | June 3, 2009; June 10, 2009; The Gainesville Sun | The Honorable Mike Byerly, Chairman, Alachua County Board of Commissioners, P.O. Box 2877, Gainesville, FL 32602 | October 8, 2009 | 120001
Collier | City of Marco Island (09-04-4108P) | July 20, 2009; July 27, 2009; Naples Daily News | Mr. Steven T. Thompson, City Manager, City of Marco Island, 50 Bald Eagle Drive, Marco Island, FL 34145 | July 7, 2009 | 120426
Lake | Town of Lady Lake (09-04-2296P) | July 10, 2009; July 17, 2009; Daily Commercial | The Honorable Ruth Kussard, Mayor Pro-Tem, Town of Lady Lake, 409 Fennell Boulevard, Lady Lake, FL 32159 | November 16, 2009 | 120613
Lake | Unincorporated areas of Lake County (09-04-2296P) | July 10, 2009; July 17, 2009; Daily Commercial | The Honorable Welton G. Cadwell, Chairman, Lake County Board of Commissioners, P.O. Box 7800, Tavares, FL 32778 | November 16, 2009 | 120421
Idaho: Ada | Unincorporated areas of Ada County (09-10-0029P) | July 24, 2009; July 31, 2009; Idaho Statesman | The Honorable Fred Tilman, Chairman Ada County, Board of Commissioners, 200 West Front Street, Boise, ID 83702 | July 15, 2009 | 160001
Illinois:
Douglas | Unincorporated areas of Douglas County (09-05-1421P) | July 15, 2009; July 22, 2009; Tuscola Journal | The Honorable Wayne Schable, Chair, Douglas County Board of Supervisors, P.O. Box 467, Tuscola, IL 61953 | June 30, 2009 | 170194
Douglas | City of Tuscola (09-05-1421P) | July 15, 2009; July 22, 2009; Tuscola Journal | The Honorable Daniel J. Kleiss, Mayor, City of Tuscola, 214 North Main Street, Tuscola, IL 61953 | June 30, 2009 | 170195
Nevada: Clark | Unincorporated areas of Clark County (09-09-1287P) | July 9, 2009; July 16, 2009; Las Vegas Review Journal | The Honorable Rory Reid, Chair, Clark County Board of Commissioners, 500 South Grand Central Parkway, Las Vegas, NV 89106 | June 25, 2009 | 320003
North Carolina:
Cabarrus | Unincorporated areas of Cabarrus County (08-04-5265P) | July 15, 2009; July 22, 2009; The Charlotte Observer | Mr. John D. Day, Manager, Cabarrus County, Governmental Center, P.O. Box 707, Concord, NC 28026 | July 6, 2009 | 370036
Cabarrus | City of Kannapolis (08-04-5265P) | July 15, 2009; July 22, 2009; Independent Tribune | The Honorable Robert S. Misenheimer, Mayor, City of Kannapolis, P.O. Box 1199, Kannapolis, NC 28082 | July 6, 2009 | 370469
Oklahoma: Canadian | City of Oklahoma City (09-06-0829P) | July 16, 2009; July 23, 2009; The Oklahoman | The Honorable Mick Cornett, Mayor, City of Oklahoma City, 200 North Walker Street, 3rd Floor, Oklahoma City, OK 73102 | July 2, 2009 | 405378
Tennessee:
Rutherford | Unincorporated areas of Rutherford County (09-04-3370P) | July 8, 2009; July 15, 2009; Daily News Journal | The Honorable Ernest Burgess, Mayor, Rutherford County, County Courthouse, Room 101, Murfreesboro, TN 37130 | November 12, 2009 | 470165
Rutherford | Town of Smyrna (09-04-2810P) | July 8, 2009; July 15, 2009; Daily News Journal | The Honorable Bobby G. Spivey, Mayor, Town of Smyrna, 315 South Lowry Street, Smyrna, TN 37167 | November 12, 2009 | 470169
Wilson | Unincorporated areas of Wilson County (09-04-3370P) | July 8, 2009; July 15, 2009; Wilson Post | The Honorable Robert Dedman, County Mayor, Wilson County, 228 East Main Street, Lebanon, TN 37087 | November 12, 2009 | 470165
Texas:
McLennan | Unincorporated areas of McLennan County (09-06-0597P) | June 26, 2009; July 3, 2009; Waco Tribune Herald | The Honorable Jim Lewis, McLennan County Judge, P.O. Box 1728, Waco, TX 76701 | November 2, 2009 | 480456
McLennan | City of Waco (09-06-0597P) | June 26, 2009; July 3, 2009; Waco Tribune Herald | The Honorable Virginia DuPuy, Mayor, City of Waco, P.O. Box 2570, Waco, TX 76702 | November 2, 2009 | 480461
Travis | City of Pflugerville (09-06-1373P) | July 23, 2009; July 30, 2009; Pflugerville Pflag | The Honorable Jeff Coleman, Mayor, City of Pflugerville, P.O. Box 589, Pflugerville, TX 78691 | November 30, 2009 | 481028
Virginia: Loudoun | Town of Leesburg (08-03-1561P) | June 24, 2009; July 1, 2009; Loudoun Times Mirror | The Honorable Kristen C. Umstattd, Mayor, Town of Leesburg, P.O. Box 88, Leesburg, VA 20178 | October 29, 2009 | 510091
Wyoming: Sweetwater | City of Rock Springs (09-08-0320P) | July 14, 2009; July 21, 2009; Rock Springs Daily Rocket Miner | The Honorable Timothy A. Kaumo, Mayor, City of Rock Springs, 212 D Street, Rock Springs, WY 82901 | November 18, 2009 | 560051

(Catalog of Federal Domestic Assistance No. 97.022, “Flood Insurance.”)

Sandra K. Knight,
Deputy Assistant Administrator for Mitigation, Department of Homeland Security, Federal Emergency Management Agency.

[FR Doc. 2010-3440 Filed 2-22-10; 8:45 am]

BILLING CODE 9110-12-P